DEPARTMENT OF EDUCATION

Office of Innovation and Improvement; Overview Information; DC School Choice Incentive Program; Notice Inviting Applications for New Awards for Fiscal Year (FY) 2004

Catalog of Federal Domestic Assistance (CFDA) Number: 84.370A.

DATES: Applications Available: February 4, 2004.

Deadline for Transmittal of Applications: March 5, 2004.

Eligible Applicants: (a) An educational entity of the District of Columbia Government.

(b) A nonprofit organization.

(c) A consortium of nonprofit organizations.

Note: To receive an award under this program, an applicant must ensure that a majority of the members of its voting board or governing organization are residents of the District of Columbia.

Estimated Available Funds: $12,505,778.

Estimated Range of Awards: $5,000,000-$12,505,778.

Estimated Average Size of Awards: $6,252,000.

Estimated Number of Awards: 1-2.

Note: The Department is not bound by any estimates in this notice.

Project Period: Up to 60 months.

Full Text of Announcement

I. Funding Opportunity Description

Purpose of Program: The DC School Choice Incentive Program provides low-income parents residing in the District of Columbia (District) with expanded options for the education of their children. This program is part of a broader school improvement effort in the District that is founded on the belief that all education sectors—public schools, public charter schools and non-public schools—can offer quality education experiences for the District's students, and that those students who are the most economically disadvantaged have the least access to such experiences.

One or more grants will be awarded on a competitive basis to eligible applicants to establish a scholarship program to provide eligible students with expanded school choice options. Students who are residents of the District and who come from households whose income does not exceed 185 percent of the poverty line are eligible to apply for scholarships from a grantee under this program. These scholarships may be used to pay the tuition and fees and transportation expenses, if any, to enable students to attend the participating District non-public elementary or secondary school of their choice.

Priorities: In accordance with 34 CFR 75.105(b)(2)(iv), these priorities are from section 306 of the DC School Choice Incentive Act of 2003.

Competitive Preference Priorities: For FY 2004 these priorities are competitive preference priorities. Under 34 CFR 75.105(c)(2)(i) we award up to an additional 35 points to an application, depending on how well the application meets these priorities.

These priorities are:

Competitive Preference Priority 1—Eligible Students (up to 15 points). The Secretary will give priority to applications from eligible entities that will most effectively give priority to eligible students who, in the school year preceding the school year in which the student would use the scholarship, attend an elementary or secondary school identified for improvement, corrective action, or restructuring under section 1116 of the Elementary and Secondary Education Act of 1965, as amended (ESEA) (20 U.S.C. 6316).

Competitive Preference Priority 2—Financial Resources (up to 10 points). The Secretary will give priority to applications from eligible entities that will most effectively target resources to students and families who lack the financial resources to take advantage of available educational options.

Competitive Preference Priority 3—Range of Options (up to 10 points). The Secretary will give priority to applications from eligible entities that will most effectively provide students and families with the widest range of educational options.

Waiver of Proposed Rulemaking: Under the Administrative Procedure Act (APA) (5 U.S.C. 553) the Department generally offers interested parties the opportunity to comment on proposed selection criteria and other non-statutory requirements. Section 437(d)(1) of the General Education Provisions Act (GEPA) (20 U.S.C. 1232(d)(1)), however, allows the Secretary to exempt from rulemaking requirements rules governing the first grant competition under a new or substantially revised program authority. This is the first competition for this program under the DC School Choice Incentive Act of 2003 (Act). The Secretary and the Mayor of the District of Columbia also have informally solicited public comments on this program within the District of Columbia. Additionally, initiating a formal notice and comment process would preclude timely implementation of this program for the 2004-05 school year. In order to ensure timely grant awards, the Secretary has decided to forego public comment on the selection criteria and other non-statutory requirements under section 437(d)(1) of GEPA. These selection criteria and other non-statutory requirements will apply to the FY 2004 grant competition only.

Program Authority: DC School Choice Incentive Act of 2003 (Title III of Division C of the Consolidated Appropriations Act, 2004).

Applicable Regulations: The Education Department General Administrative Regulations (EDGAR) in 34 CFR parts 75, 77, 79, 80, 81, 82, 84, 85, 86, 97, 98 and 99.

II. Award Information

Type of Award: Discretionary grants or cooperative agreements.

Estimated Available Funds: $12,505,778.

Estimated Range of Awards: $5,000,000-$12,505,778.

Estimated Average Size of Awards: $6,252,000.

Estimated Number of Awards: 1-2.

Note: The Department is not bound by any estimates in this notice.

Project Period: Up to 60 months.

III. Eligibility Information

1. Eligible Applicants:

(a) An educational entity of the District of Columbia Government.

(b) A nonprofit organization.

(c) A consortium of nonprofit organizations.

Note: To receive an award under this program, an applicant must ensure that a majority of the members of its voting board or governing organization are residents of the District of Columbia.

2. Cost Sharing or Matching: This program does not involve cost sharing or matching.

3. Other: Application Contents. The Secretary may not approve an application for a grant under this program unless the application includes a detailed description of—

(a) How the entity will address the priorities described in this notice;

(b) How the entity will ensure that, if more eligible students seek admission in the scholarship program than the program can accommodate, eligible students will be selected for admission through a lottery that gives weight to students and families described in competitive preference priorities (1) and (2) elsewhere in this notice. This lottery should be designed in such a way as to maximize the number of students receiving scholarships by matching accepted students with available slots at participating schools and allow parents of eligible students and participating schools to participate in determining the appropriate school and grade-level placements for eligible students;

(c) How the entity will ensure that if more participating eligible students seek admission to a participating school than the school can accommodate, participating eligible students will be selected for admission through a lottery. Scholarship recipients may be admitted to a participating school without regard to the lottery if they are siblings of students already admitted to, or attending, that school;

(d) How the entity will notify parents of eligible students of the expanded choice opportunities provided under the program and how the entity will ensure that parents receive sufficient information about their options to allow them to make informed decisions, including, but not limited to, information—for each participating school—about the qualifications of its teachers; the educational philosophy and available courses and programs of the school; the achievement of the school's students; student expectations (such as uniforms, discipline policy, honor code, and required classes); and the safety and school environment of the school;

(e) The activities that the entity will carry out to provide parents of eligible students with expanded choice opportunities through the awarding of scholarships;

(f) How the entity will determine the amount that will be provided to parents for the tuition and fees and for transportation expenses, if any, including how the entity will ensure compliance with the requirement that the amount of any tuition or fees charged by the school to an eligible student participating in the program does not exceed the amount of tuition and fees the school customarily charges to students who do not participate in the program;

(g) How the entity will seek out non-public elementary and secondary schools in the District to participate in the program, and will ensure that participating schools will meet the applicable requirements of the Act and provide the information needed for the entity to meet the reporting requirements of this program;

(h) How the entity will ensure that participating schools are financially responsible and will use the funds received under this program effectively;

(i) How the entity will address the renewal of scholarships to participating eligible students, including their continued eligibility; and

(j) How the entity will consult with private schools initially and throughout the planning and implementation, including consultation on how participating schools may require eligible students to abide by any rules of conduct and other requirements applicable to all other students in a school, in order to facilitate an effective and successful scholarship program for both participating students and private schools.

Note: An eligible entity receiving a grant under this program may award a scholarship, for the second or any succeeding years of a student's participation in the scholarship program, to a student who was eligible for the first year of the scholarship and comes from a household whose income has subsequently increased but does not exceed 200 percent of the poverty line.

Additionally, an eligible entity must assure that it will comply with all requests regarding the evaluation carried out under section 309 of the Act. Additional information regarding this evaluation can be found in the application package for this program.

An eligible entity must be willing and able to work with other entities affiliated with the Federal and District governments, as well as other organizations that might conduct activities integral to the success of the program, including, as appropriate, incorporating and building on any preparatory work conducted by other interested organizations, such as outreach activities to families of students eligible to participate in the program and non-public schools.

Definitions. As used in this program:

(a) Elementary School means an institutional day or residential school that provides elementary education, as determined under District of Columbia law.

(b) Eligible Student means a student who—

(1) Is a resident of the District of Columbia; and

(2) Comes from a household whose income does not exceed 185 percent of the poverty line applicable to a family of the size involved.

(c) Parent includes a legal guardian or other person standing in loco parentis (such as a grandparent or stepparent with whom the child lives, or a person who is legally responsible for the child's welfare).

(d) Poverty Line means the poverty line (as defined by the Office of Management and Budget and revised annually in accordance with section 673(2) of the Community Services Block Grant Act) applicable to a family of the size involved.

(e) Secondary School means an institutional day or residential school that provides secondary education, as determined under District of Columbia law, except that the term does not include any education beyond grade 12.

IV. Application and Submission Information

1. Address to Request Application Package: Iris Lane, U.S. Department of Education, 400 Maryland Avenue, SW., room 3C156 FB6, Washington, DC 20202-5961. Telephone: (202) 260-1999 or by e-mail: iris.lane@ed.gov.

If you use a telecommunications device for the deaf (TDD), you may call the Federal Information Relay Service (FIRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this program.

Page Limit: The application narrative (Part III of the application) is where you, the applicant, address the selection criteria and priorities that reviewers use to evaluate your application. You must limit Part III to the equivalent of no more than 50 pages, using the following standards:

• A “page” is 8.5″ x 11″, on one side only, with 1″3 margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, or letters of support. However, you must include all of the application narrative in Part III.

Our reviewers will not read any pages of your application that—

• Exceed the page limit if you apply these standards; or

• Exceed the equivalent of the page limit if you apply other standards.

3. Submission Dates and Times:

Applications Available: February 4, 2004.

Deadline for Transmittal of Applications: March 5, 2004.

Note: We are requiring that applications for grants under this program be submitted electronically using the Electronic Grant Application System (e-Application) available through the Department's e-GRANTS system. For information about how to access the e-GRANTS system or to request a waiver of the electronic submission requirement, please refer to Section IV, Other Submission Requirements, in this notice.

The application package for this program specifies the hours of operation of the e-Application Web site. If you are requesting a waiver of the electronic submission requirement, the dates and times for the transmittal of applications by mail or by hand (including a courier service or commercial carrier) are also in the application package.

We do not consider an application that does not comply with the deadline requirements.

4. Intergovernmental Review: This program is subject to Executive Order 12372 and the regulations in 34 CFR part 79. Information about Intergovernmental Review of Federal Programs under Executive Order 12372 is in the application package for this program.

5. Funding Restrictions: Use of Funds.

(a) Scholarships.

(1) A grantee must use grant funds to provide eligible students with scholarships to pay the tuition, fees, and transportation expenses, if any, to enable them to attend a participating District non-public elementary or secondary school of their choice. A grantee must ensure that the amount of any tuition or fees charged by a school to an eligible student participating in the program does not exceed the amount of tuition or fees that the school customarily charges to students who do not participate in the program. An entity that receives an award under this program will be responsible for ensuring compliance with this requirement by each participating school.

(2) A grantee may award scholarships in varying amounts (subject to paragraph (b) of this section), with larger amounts going to eligible students with the greatest need.

(b) Annual Limit on Amount of Scholarship: The amount of assistance provided to any eligible student by a grantee with funds received under this program may not exceed $7,500 for any academic year.

(c) Administrative Expenses: A grantee may not use more than 3 percent of the amount provided under the grant each year for the administrative expenses of carrying out its program.

We reference additional regulations outlining funding restrictions in the Applicable Regulations section of this notice.

6. Other Submission Requirements: Instructions and requirements for the transmittal of applications by mail or by hand (including a courier service or commercial carrier) are in the application package for this program. Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications for grants under the DC School Choice Incentive Program—CFDA Number 84.370A be submitted electronically using the e-Application available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Iris Lane, U.S. Department of Education, 400 Maryland Avenue, SW., room 3C156, Washington, DC 20202-5961. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications: We are continuing to expand our pilot project for electronic submission of applications to include additional formula grant programs and additional discretionary grant competitions. The DC School Choice Incentive Program—CFDA Number 84.370A is one of the programs included in the pilot project. If you are an applicant under the DC School Choice Incentive Program, you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for The DC School Choice Incentive Program at: http://e-grants.ed.gov.

V. Application Review Information

Selection Criteria: Points awarded under these selection criteria are in addition to any points an applicant earns under the competitive preference priorities in this notice. The maximum score an application may receive based on the priority points and the selection criteria is 165 points. The selection criteria for this program are as follows:

(a) Selection of students (up to 15 points). In determining the quality of the applicant's plan for the selection of students to receive scholarships, the Secretary considers the extent to which—

(i) The application provides a description of the lottery that would be used to make selections of scholarship applicants in the event that the scholarship program is oversubscribed and for selecting students to attend a participating school if more students apply to, and are accepted for enrollment by, that school than it can accommodate;

(ii) The application provides assurances and appropriate documentation that the applicant, if funded, will cooperate with the evaluation contractor selected by the Department and the District of Columbia Government in planning and implementing the lottery for selecting program participants;

(iii) The selection process gives priority to applicants who attend a District elementary or secondary school identified for school improvement, corrective action, or restructuring under section 1116 of the ESEA; and

(iv) The selection process gives priority to applicants whose families lack the financial resources to take advantage of available educational options.

(b) Notification of parents (up to 20 points). In determining the quality of the applicant's plan to notify parents about the scholarships, the Secretary considers the extent to which the application—

(i) Describes a plan for outreach such as direct mailings, forums, radio, television and print advertising to inform eligible students and their parents about the availability of scholarships and the procedures for applying to the scholarship program; and

(ii) Provides evidence that parents will receive sufficient information about their options to allow them to make informed decisions, including, but not limited to, information on each participating school about the qualifications of its teachers; the educational philosophy and available courses and programs of the school; the achievement of the school's students; student expectations (such as uniforms, discipline policy, honor code, and required classes); and the safety and school environment of the school.

(c) Amount of scholarship (up to 10 points). In determining the quality of the applicant's plan for establishing the amount of a scholarship to an eligible student, the Secretary considers the extent to which the applicant's methods—

(i) Provides a mechanism to award scholarships for tuition and fees, and transportation expenses, if any, in larger amounts to those eligible students with the greatest need, provided they do not exceed the maximum annual scholarship amount; and

(ii) Ensure that the amount of tuition and fees charged by a participating school to a scholarship student under the program will not exceed the amount of tuition and fees that the school customarily charges to students who do not participate in the program.

(d) Participating schools (up to 20 points). In determining the quality of the applicant's plan for identifying participating non-public schools, the Secretary considers the extent to which the application—

(i) Describes the applicant's plan to seek out non-public elementary and secondary schools that operate lawfully in the District, to participate in the program during its initial year and subsequent years;

(ii) Describes how the applicant will ensure that participating schools will comply with the requirements of the Act and will provide the information needed for the applicant to meet the reporting requirements of the Act; and

(iii) Describes how the applicant will ensure that participating schools are financially responsible and will use the funds received under this title effectively.

(e) Renewal of scholarships (up to 10 points). In determining the quality of the applicant's plan for the renewal of scholarships, the Secretary considers the applicant's methods for determining the eligibility of participating student to continue in the program.

(f) Quality of project personnel (up to 15 points). In determining the quality of the personnel of the proposed project, the Secretary considers the qualifications, including relevant training and experience, of the project director, other key personnel, and any project consultants in such areas as—

(i) Working with schools, parents, and government officials;

(ii) Operating a scholarship program; and

(iii) Establishing and maintaining record-keeping requirements.

(g) Organizational capability (up to 20 points). In determining the applicant's organizational capability, the Secretary considers—

(i) The amount and quality of experience the applicant has with the types of activities it proposes to undertake in its application, such as conducting outreach, administering funds, tracking scholarships, and ensuring that scholarship funds are used for the payment of tuition and fees and transportation expenses, if any, in accordance with the Act; and

(ii) The applicant's financial soundness.

(h) Reports (up to 10 points). In determining the quality of the applicant's reporting plan, the Secretary considers the extent to which the applicant's plan for assembling the information and submitting activities reports, achievement reports, and reports to parents complies with the requirements under section 310 of the Act.

(i) Collection of baseline data (up to 10 points). In determining the quality of the applicant's plan to collect baseline data, the Secretary considers the extent to which the applicant documents how it will cooperate with the evaluation contractor to collect baseline data, including, but not limited to, student and parent demographics and income, parent perception of a student's current school (including safety), parent awareness of their choice options, contact information for parents, and consent forms for ongoing data collection.

VI. Award Administration Information

1. Award Notices: If your application is successful, we notify your U.S. Representative and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) Requirements under EDGAR. At the end of your project period, you must submit a final performance report, including financial information, as directed by the Secretary. If you receive a multi-year award, you must submit an annual performance report that provides the most current performance and financial expenditure information as specified by the Secretary in 34 CFR 75.118.

(b) Requirements under the Statute. (1) Activities Reports. Each grantee receiving funds under this program during a year shall submit a report to the Secretary not later than July 30 of the following year regarding the activities carried out with the funds during the preceding year.

(2) Achievement Reports. (i) In general. In addition to the reports required under paragraph (1), each grantee shall, not later than September 1 of the year during which the second academic year of the grantee's program is completed and each of the next 2 years thereafter, submit a report to the Secretary regarding the data collected in the previous 2 academic years concerning—

(A) The academic achievement of students participating in the program;

(B) The graduation and college admission rates of students who participate in the program, where appropriate; and

(C) Parental satisfaction with the program.

(ii) Prohibiting disclosure of personal information. No report under this subsection may contain any personally identifiable information.

(3) Reports to Parent. (i) In general. Each grantee shall ensure that each school participating in the grantee's program under this program during a year reports at least once during the year to the parents of each of the school's students who are participating in the program on—

(A) The student's academic achievement, as measured by a comparison with the aggregate academic achievement of other participating students at the student's school in the same grade or level, as appropriate, and the aggregate academic achievement of the student's peers at the student's school in the same grade or level, as appropriate; and

(B) The safety of the school, including the incidence of school violence, student suspensions, and student expulsions.

(ii) Prohibiting disclosure of personal information. No report under this subsection may contain any personally identifiable information, except as to the student who is the subject of the report to that student's parent.

4. Performance Measures: The long-term performance indicator for this program is whether, at the end of the program, the student achievement gains of participants are greater than that of students in control or comparison groups. Data for the performance measure will be collected through the program evaluation.

VII. Agency Contact

FOR FURTHER INFORMATION CONTACT: Iris Lane, U.S. Department of Education, 400 Maryland Avenue, SW., room 3C156, Washington, DC 20202-5961. Telephone: (202) 260-1999 or by e-mail: iris.lane@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 30, 2004.
Nina Shokraii Rees,
Deputy Under Secretary for Innovation and Improvement.

[FR Doc. 04-2286 Filed 2-3-04; 8:45 am]

BILLING CODE 4000-01-P